DEPARTMENT OF TRANSPORTATION

Federal Motor Carrier Safety Administration

[Docket No. FMCSA-2016-0069]

Commercial Driver's Licenses; Proposed Pilot Program To Allow Persons Between the Ages of 18 and 21 With Military Driving Experience To Operate Commercial Motor Vehicles in Interstate Commerce

AGENCY: Federal Motor Carrier Safety Administration (FMCSA), DOT.

ACTION: Notice of proposed pilot program; request for comments.

SUMMARY: As required by section 5404 of the Fixing America's Surface Transportation (FAST) Act, FMCSA proposes a pilot program to allow a limited number of individuals between the ages of 18 and 21 to operate commercial motor vehicles (CMVs) in interstate commerce if they have received specified heavy-vehicle driver training while in military service and are sponsored by a participating motor carrier. During the 3-year pilot program, the safety records of these younger drivers (the study group) would be compared to the records of a control group of comparable size, comprised of drivers who are 21 years of age or older and who have comparable training and experience in driving vehicles requiring a commercial driver's license (CDL). The control group would consist of volunteer drivers who meet specified criteria and are employed by a participating carrier. The comparison of the two groups' performance would help to determine whether age is a critical safety factor. FMCSA also proposes criteria for a working group to consult with the Agency in conducting, monitoring, and evaluating the pilot program. Further, the Agency outlines procedural steps and a data collection plan, and requests comments on these elements.

DATES: Comments must be received on or before September 21, 2016.

ADDRESSES: You may submit comments bearing the Federal Docket Management System (FDMS) Docket ID FMCSA-2016-0069 using any of the following methods:

• Federal eRulemaking Portal: www.regulations.gov. Follow the online instructions for submitting comments.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m., Monday through Friday, except Federal holidays.

• Fax: 1-202-493-2251

Each submission must include the Agency name and the docket number for this notice. Note that DOT posts all comments received without change to www.regulations.gov, including any personal information included in a comment. Please see the Privacy Act heading below.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. Selden Fritschner, CDL Division, Federal Motor Carrier Safety Administration, 1200 New Jersey Avenue SE., Washington, DC 20590-0001, by email at Selden.Fritschner@dot.gov, or by telephone at 202-366-0677. If you have questions on viewing or submitting material to the docket, contact Docket Services, telephone (202) 366-9826.

SUPPLEMENTARY INFORMATION:

I. Public Participation and Request for Comments

FMCSA encourages you to participate by submitting comments and related materials. In this notice, FMCSA requests certain information, but comments are not limited to responses to those requests.

Submitting Comments

If you submit a comment, please include the docket number for this notice (FMCSA-2016-0069), indicate the specific section of this document to which the comment applies, and provide a reason for suggestions or recommendations. You may submit your comments and material online, by fax, mail, or hand delivery, but please use only one of these means. FMCSA recommends that you include your name and a mailing address, an email address, or a phone number in the body of your document so the Agency can contact you if it has questions regarding your submission.

To submit your comment online, go to www.regulations.gov, put the docket number, “FMCSA-2016-0069” in the “Keyword” box, and click “Search.” When the new screen appears, click on the “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Viewing Comments and Documents

To view comments, as well as documents mentioned in this notice as being available in the docket, go to www.regulations.gov and insert the docket number, “FMCSA-2016-0069” in the “Keyword” box and click “Search.” Next, click the “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

II. Legal Basis

On June 9, 1998, the President signed the Transportation Equity Act for the 21st Century (TEA-21) (Pub. L. 105-178, 112 Stat. 107). Section 4007 of TEA-21 amended 49 U.S.C. 31315 and 31136(e) to give the Secretary of Transportation (the Secretary) authority to grant waivers and exemptions from the Federal Motor Carrier Safety Regulations (FMCSRs) and to conduct pilot programs. A waiver is limited to a period of 3 months and may be granted without requesting public comment. By contrast, an exemption may remain in effect for up to 5 years ¹ and may be renewed. The Secretary must provide the public with an opportunity to comment on each exemption request prior to granting or denying it.

¹ Section 5206 of the Fixing America's Surface Transportation (FAST) Act amended 49 U.S.C. 31315(b)(2) to extend the maximum duration of an exemption from 2 years to 5 years, effective October 1, 2015.

Section 4007 also authorizes pilot programs in which one or more exemptions are granted to allow for the testing of innovative alternatives to certain FMCSRs. FMCSA must publish in the Federal Register a detailed description of each pilot program, including the exemptions being considered, and provide notice and an opportunity for public comment before the effective date of the program. The Agency is required to ensure that the safety measures in the pilot programs are designed to achieve a level of safety that is equivalent to, or greater than, the level of safety that would be achieved through compliance with the safety regulations. The maximum duration of pilot programs is 3 years from the starting date.

At the conclusion of each pilot program, FMCSA must report to Congress its findings, conclusions, and recommendations, including suggested amendments to laws and regulations that would enhance motor carrier, CMV, and driver safety, and improve compliance with the FMCSRs.

Section 4007 was implemented through an interim final rule (IFR) on December 8, 1998 (63 FR 67600) and codified at 49 CFR part 381. The IFR was finalized on August 20, 2004 (69 FR 51589). The final rule established procedures applicants must follow to request waivers and apply for exemptions from the FMCSRs and procedures to propose and manage pilot programs.

Section 5404 of the FAST Act (Pub. L. 114-94, 129 Stat. 1312, 1549, Dec. 4, 2015) requires the Secretary of Transportation to conduct a commercial driver pilot program to “. . . study the feasibility, benefits, and safety impacts of allowing a covered driver to operate a commercial motor vehicle in interstate commerce.” A “covered driver” is defined as a member or former member of the armed forces or reserve and national guard components between the ages of 18 and 21, who is qualified in a Military Occupational Specialty to operate a CMV or similar vehicle. A driver participating in the program may not transport passengers or hazardous cargo, or operate a vehicle in a “special configuration.”

Section 5404 requires the pilot program to collect and analyze data regarding crashes involving covered drivers participating in the program, and drivers under the age of 21 operating CMVs in intrastate commerce. (See Section VIII of this notice.)

Section 5404 also requires the Secretary to “. . . conduct, monitor, and evaluate . . .” the pilot program in consultation with a working group consisting of representatives of the armed forces, industry, drivers, safety advocacy organizations, and State licensing and enforcement officials. The working group must review the data collected and make recommendations to the Secretary regarding the feasibility, benefits, and safety impacts of allowing a covered driver to operate in interstate commerce. (See Section V of this notice.)

III. Background

Applicable Regulations

Drivers of CMVs engaged in interstate commerce must be at least 21 years of age (49 CFR 391.11(b)(1)). This includes CMVs for which CDLs are required, as well as certain other CMVs for which a CDL is not required.

In the May 9, 2011, final rule on “Commercial Driver's License Testing and Commercial Learner's Permit Standards” (76 FR 26854), the Agency set a minimum age of 18 for an individual to obtain a commercial learner's permit (CLP) prior to obtaining a CDL. An 18-year-old CLP holder is allowed to drive in intrastate commerce only. Therefore, the proposed pilot program requires that participating drivers be provided relief from sections of 49 CFR parts 383 and 391 concerning minimum age requirements.

Prior Younger Driver Pilot Program Efforts

In the early 1970s, the Federal Highway Administration (FHWA), FMCSA's predecessor agency, examined the subject of the minimum age of CMV drivers as part of a comprehensive overhaul of the driver qualification requirements. FHWA conducted a literature review and analyzed crash statistics and psychological data. The result was a 1975 report titled “Minimum Age Requirements of the Federal Motor Carrier Safety Regulations.” A copy of the report is filed in the docket identified at the beginning of this notice. The Agency found that most drivers under the age of 21 “lack the general maturity, skill and judgment that is necessary in handling commercial motor vehicles.” The report concluded that there was no support for lowering the age limit of 21.

Subsequently, on October 2, 2000, the Truckload Carriers Association (TCA) petitioned FMCSA to conduct a younger driver pilot program. Motor carriers, truck driver training schools, a trade association, and an insurance company joined in the petition asking FMCSA to authorize a pilot program to determine if CMV drivers under age 21 could operate CMVs safely in interstate commerce. Petitioners stated that this pilot would address the shortage of CMV drivers in the trucking industry. Petitioners also asserted that recruiting young persons as truck drivers would be easier if they could be approached immediately after graduation from high school.

The pilot program proposed by TCA would have involved a minimum of 48 weeks of intensive classroom and driving instruction and supervision that was designed to lead to full-time employment as an interstate CMV driver. Each younger driver (18 to 21 years of age) would attend a truck driver training school approved by the Professional Truck Driver Institute for a minimum of 22 weeks and receive 8 weeks of training in a motor carrier's “driver finishing” program. This would be followed by 18 weeks of team driving with an older, more experienced driver. Younger drivers would be required to pass the performance standards of the entire 48-week program and reach the age of 19 to begin solo driving.

On February 20, 2001, FMCSA published a notice asking six questions about the proposed pilot program and requesting public comment on the TCA petition (66 FR 10935). FMCSA received more than 1,600 comments. Very few commenters presented data either for or against the program. More than 90 percent of the commenters were opposed, most on the basis that individuals under the age of 21 lacked the maturity and judgment to operate a CMV. None explained how interstate drivers under 21 would diminish safety when most States have concluded that intrastate drivers under 21 do not do so. Very few truck drivers and motor carriers commented, but most of them also opposed the pilot program.

The following language appeared in the Senate Report accompanying the Fiscal Year (FY) 2003 Department of Transportation Appropriations bill: “Given the fact that young drivers are overrepresented in motor vehicle crashes, the Committee is not convinced of the merits of this proposal. Prior to the approval of such a pilot program, the Committee directs the FMCSA Administrator to conduct a thorough analysis of the safety ramifications and whether there's a genuine shortage of truck drivers to warrant such a waiver of the Federal safety regulations.” [Senate Report No. 107-224, July 26, 2002].

On June 9, 2003 (68 FR 34467, 34468), FMCSA denied the TCA petition stating that “the Agency does not have sufficient information at this time to make a determination that the safety measures in the pilot program are designed to achieve a level of safety equivalent to, or greater than, the level of safety provided by complying with the minimum 21-year age requirement to operate a CMV.”

IV. Structure of the Proposed Pilot Program

The purpose of this proposed 3-year pilot program is to determine whether persons under the age of 21 can safely operate CMVs in interstate commerce, and to enhance opportunities for persons with relevant military training to enter the CMV industry. While many intrastate CMV drivers are already in this age group, the Agency is not aware of any studies or published reports comparing their safety performance with that of drivers over 21, either interstate or intrastate. This pilot program proposes to utilize a study group of drivers under the age of 21, who have trained on and operated heavy vehicles while in military service. Because many service personnel leave active duty while close to or over the age of 21, it is likely that most study group members would be reservists or National Guard members. Persons who meet the qualifications described later in this notice may apply to a participating motor carrier for study group sponsorship, which, if approved, would allow the individual to operate a CMV in interstate commerce for that carrier before age 21. To have a statistically valid sample of drivers under the age of 21, approximately 200 study group participants are desired. When these individuals reach the age of 21, they would no longer participate in the pilot program and would be replaced by new study group members meeting the eligibility requirements. The length of time during which replacement study group members will be added will be determined by FMCSA based on the statistical and administrative needs of the pilot data collection plan.

Participating carriers that meet the qualifications described later in this notice would sponsor study group members and perform other duties related to the pilot, such as filing certain reports and recruiting existing drivers to participate as control group members. To reduce the administrative effort involved, FMCSA anticipates that a fairly small number of carriers would be selected to participate.

The control group of older drivers would be needed to form a baseline of comparison for the safety records of the younger study group drivers. The control group participants would be 21 years of age and older, would have received formal CMV driving training comparable to that of the study group members, and would have similar lengths of driving experience. These control group members working for the same participating carriers would volunteer as the study group members. As a participating carrier receives approval from FMCSA for a qualifying younger employee to be in the study group, the carrier would then submit a qualifying, existing employee for inclusion in the control group. In this manner, an approximately equal number of drivers would be accepted by FMCSA for each group.

Carriers would be required to install and operate electronic logging devices (ELDs) on all vehicles operated by study and control group drivers. Data from these devices, such as vehicle miles traveled (VMT), is essential to analyze driving safety records.

In addition to identification data for all participants, FMCSA would gather safety data for all study and control group drivers during the pilot, such as crashes and driving and inspection violations. Because the amount of data of this nature that can be collected in 3 years may be comparatively small, FMCSA would also consider requesting participating carriers that have onboard monitoring systems (OBMSs) to share that data. The safety-critical events (SCEs) ² recorded by OBMSs may provide valuable information on drivers' operating performance. The use of OBMSs would be based on the willingness of carriers and drivers to participate and the existing equipment in the carrier's cabs. FMCSA specifically seeks comments on this option.

² Safety-critical events include crashes, near-crashes, and crash-relevant conflicts.

FMCSA would reserve the right to select the carriers to participate and continue in the pilot, as well as to approve the members of the study and control groups.

V. Management of the Proposed Pilot Program; the Working Group

Section 5404 of the FAST Act requires the Secretary to “. . . conduct, monitor, and evaluate . . .” the pilot program in consultation with a working group consisting of representatives of the armed forces, industry, drivers, safety advocacy organizations, and State licensing and enforcement officials. The organization and appointment of this working group would take place under existing Departmental policies and procedures.

FMCSA would designate a project manager for the pilot program and review applications for this program. Approved participating carriers would be publicly announced on the Agency's Web site to encourage potential study group members (i.e., drivers) to apply through the identified carriers for participation. Approved carriers would be able to assist potential study group drivers (whom they sponsor) with completion of the application and participation agreement. When a carrier receives notification that a qualifying study group member has been approved by FMCSA, the carrier would then submit a form and agreement for a control group driver. In this manner, the number of drivers in each group would be similar; i.e., about 200 in the study group and 200 in the control group. FMCSA would develop the applications, agreements, and forms to be used by interested carriers and potential study and control group members.

Eligibility requirements and procedural matters are discussed later in this notice.

VI. Proposed Eligibility Criteria To Participate

A. Motor Carriers

Details of each requirement for motor carriers summarized below would be published if the pilot program is approved. Interested motor carriers would be required to:

• Volunteer during the announced application period.

• Be able to supply control group drivers in numbers matching the study group drivers to be employed.

• Agree to comply with all pilot program procedures.

• Agree to submit required pilot program data and reports.

• Purchase, install and operate an ELD in each truck used in the pilot program study.

• Monitor and report safety records of study and control group members as required by FMCSA.

• Have a good safety record, to include appropriate Safety Measurement System (SMS) status, registration, operating authority, financial responsibility, and other Agency records.

B. Under-21 Applicants (Study Group Drivers)

Details of each requirement for study group applicants summarized below would be published if the pilot program is approved. Interested drivers would be required to:

• Volunteer.

• Be 18, 19, or 20 years of age as of the date they are approved by FMCSA for participation.

• Have certification from a military service of training and experience in driving heavy vehicles while in military service, as described in Section IX of this notice.

• Agree to the release of specific information to FMCSA for purposes of the pilot.

• Agree to the use of ELDs.

• Have no disqualifications, suspensions, or license revocations within past 3 years; or be under any out-of-service order.

• Meet all FMCSR requirements (except age) for operating a CMV in interstate commerce.

• Operate primarily in interstate commerce if selected.

• Not transport passengers or hazardous materials, or operate double- or triple-trailer combinations or cargo tank vehicles while participating in the pilot, regardless of any license endorsements held.

C. Control Group Drivers

Details of each requirement for control group drivers summarized below would be published if the pilot program is approved. Control group drivers would be required to:

• Volunteer.

• Possess a valid CDL.

• Be a full-time driver for participating motor carrier.

• Have no disqualifications, suspensions, or license revocations within past 3 years; or be under any out-of-service order.

• Agree to the use of ELDs.

• Agree to release of specified information for pilot program.

• Have training and experience comparable to study group drivers, regardless of the source.

• Be 21 to 26 years old at time of acceptance into the pilot.

VII. Application Process

A. Motor Carriers

• Contact the pilot project manager to arrange a brief no-obligation preliminary interview via telephone.

• Complete and file with FMCSA the application for participation that is proposed to include identification information on the carrier; number of study/control group participants the carrier is willing to sponsor; nature of duties of study and control group drivers, to include reporting typical hours worked and miles traveled.

• Designate a pilot program coordinator.

B. Under-21 Applicants (Study Group Drivers)

• Obtain from commanding officer, or his or her official designee, a certification ³ that the applicant had formal training and experience in the operation of heavy motor vehicles while in military service.

³ Form to be developed.

• Contact approved participating carrier(s) to determine the availability of positions and their qualification requirements.

• Complete any documents prescribed by FMCSA for participation.

C. Control Group Drivers

• Participating carriers would solicit qualifying volunteer drivers from among existing employees in numbers equal to study group participants; and

• Complete any documents prescribed by FMCSA for participation.

VIII. Data Collection Plan

Details of the data collection plan for this proposed pilot program would be developed based on comments to the docket and further review by analysts. The factors to be collected from each participating driver before and during the pilot program may include, but are not limited to, (1) details of any past CMV driving experience and demographic information, to assess qualification for participation in the study and/or control groups; (2) crashes (to be specified); (3) any traffic citations or warnings received while driving a CMV; (4) any violations or warnings listed on a CMV inspection report when the participating driver was operating the vehicle, and (5) detailed 24-hour records of activity to include CMV hours-of-service logs or electronic records. Some of this information normally should be automatically reported to FMCSA; however, due to possibility of delays in reporting and inaccurate data in some instances, the participating carrier would be asked to collect the information from all participating drivers and report it to FMCSA in a designated format. Other information that may be needed, such as VMT, would also be collected through the participating carrier. Every effort would be made to minimize the burden on the carrier in collecting and reporting this data.

IX. Armed Forces Heavy-Vehicle Driver Training Programs

Four branches of the Department of Defense—the Army, Air Force, Navy, and Marine Corps—provide specific training dedicated to operating heavy-duty vehicles. There are three basic job training classifications with additional training for other types of heavy-duty specialty vehicles (e.g., gasoline haulers, construction vehicles, and military equipment transport oversize/overweight [non-track vehicles]).

There are four core training programs for heavy vehicle operations, based on the occupational specialty code of the service member:

• Army—88M—Motor Transport Operator.

• Air Force—2T1—Vehicle Operations.

• Marine Corps—3531—Motor Vehicle Operator.

• Navy—EO—Equipment Operator.

These four are not the only occupational specialty codes that the Agency may designate to participate in the pilot. Comments and data are requested for additional military occupational specialty codes or equivalent that should be included.

Army—88M Training

The 88M Instructor Training Manual is 142 pages long. The student manual—STP 55-88M14-SM-TG Soldier's Manual and Trainer's Guide 88M, Motor Transport Operator—is 229 pages long and includes 4 levels of training. The 6-week core curriculum of the Army 88M course contains a total of 221 hours of training, including:

• Lecture—32 classroom hours.

• Practical application—road driving—189 hours.

Motor Transport Operators are primarily responsible for operating wheeled vehicles to transport personnel and cargo. Motor Transport Operator duties include: Interior components/controls and indicators; basic vehicle control; driving vehicles over all types of roads and terrain, traveling alone or in convoys; braking, coupling, backing, and alley docking; adverse/tactical driving operations; pre-trip inspections; reading load plans; checking oil, fuel and other fluid levels, as well as tire pressure; operations in automatic and manual modes; crash prevention; safety check procedures; basic vehicle maintenance and repairs; transporting hazardous materials; and keeping mileage records.

Air Force—2T1—Vehicle Operations

The Air Force Tractor Trailer Plan of Instruction (POI) is 226 pages long. The minimum length of instruction for the basic school is 84 hours, including 22 hours of classroom and 62 hours of hands-on activity, both alone on a training pad and on the road with an instructor. The core curriculum is based on the material in the American Association of Motor Vehicle Administrators (AAMVA) CDL Manual—2005 edition (2014 revised). Students participating in the basic 2T1 curriculum learn general principles in the classroom. Specialized training occurs at the installation using the Tractor Trailer Plan of Instruction. A minimum of 40 hours over-the-road time is expected on each vehicle/trailer type.

Topics covered in the Air Force Vehicle Operations course include: Overview of training and Federal requirements; Federal motor vehicle safety standards; tractor/trailer design; hazards and human factors relative to the environment where used; safety clothing and equipment; driving safely; pre- and post-trip vehicle inspection; basic vehicle control; shifting gears; managing space and speed; driving in mountains, fog, winter, very hot weather, and at night; railroad crossings; defensive awareness to avoid hazards and emergencies; skid control and recovery; what to do in case of a crash; fires; staying alert and fit to drive; hazardous materials—rules for all commercial drivers; preparing, inspecting, and transporting cargo safely; inspecting and driving with air brakes; driving combination vehicles safely; and coupling and uncoupling.

Marine Corps—3531—Motor Vehicle Operator

The core curriculum of the Marine Corps 3531 course—TM 11240-15/3G contains three training areas:

• Lecture—24 classroom hours.

• Demonstration—classroom/training pad—35 hours.

• Practical application—road driving—198 hours.

Instructional breakout includes:

• Demonstration: 35 hours.

• Guided discussion: 1.5 hours.

• Lecture: 24 hours.

• Performance examination: 62 hours.

• Practical application (individual): 198 hours.

• Written examination: 7 hours.

Classroom instruction includes lectures, demonstration, and practice time for the specific tasks identified. Each classroom session includes written and performance evaluations to ensure students have mastered all of the learning objectives for the specialty proficiency. Training includes both simulators and actual vehicle operation. Practical training includes on-the-road and skills operations, ground guide procedures, and operating a vehicle with a towed load. Students practice their driving and backing, with and without a trailer. Instructors ride with the students as they operate on approved road routes. Specific training areas (pads) are set aside for the students to practice their backing skills and ground guide procedures safely.

The Marine Corps training curriculum also includes emergency procedures and cargo loading.

Navy—EO—Equipment Operator

The core curriculum of the USN Heavy Vehicle Operator (Truck Driver) (EO) course (53-3032.00) is designed to train Navy personnel how to operate passenger and cargo vehicles to rated capacity. They palletize, containerize, load and safely transport various types of cargo and demonstrate knowledge and skills for qualifying as a driver journeyman. The complete program covers topics including:

• Hazardous materials transportation

• Line haul planning

• Manual tractor-truck operations

• Vehicle Recovery Operations

The course is taught over 160 hours including 30 hours classroom and 130 hours lab (behind the wheel). By completing this course, the Navy driver will be able to:

1. Perform the duties of normal, non-combat conditions driving in accordance with the local state driver licensing agency's CDL driver handbook;

2. Manage hazardous petroleum, oils and lubricants (POL) material required during line haul and worksite activities, to support normal, non-combat operations;

3. Perform preventive maintenance on a non- or up-armored manual truck tractor with drop-neck trailer, consisting of pre-start, during-operations, and after-operations equipment checks, to support normal, non-combat operations, in accordance with local State Driver License Agency CDL handbooks;

4. Operate vehicle controls of a non- or up-armored manual truck-tractor, to support normal, non-combat operations; and

5. Be proficient with the components and controls of a drop-neck trailer relative to a detached/attached gooseneck and a coupled/uncoupled trailer.

Other topics covered within the Navy EO training program include:

• Development and maintenance of operational records

• Operation of high mobility multi-purpose wheeled vehicles

• Weight distribution and load securement

• Loading bulk and container cargo

• Preventive maintenance

• Pre- and post- trip vehicle safety inspections

X. Paperwork Reduction Act

The proposed pilot program would require participating motor carriers to collect, maintain, and report to FMCSA certain information about their employed/sponsored drivers who are participating in the pilot program. This would include identifying information and safety performance data for use in analyzing the drivers' safety history. The Agency would develop forms to promote uniformity in the data collected by the pilot carriers.

The Paperwork Reduction Act of 1995 (the PRA) (44 U.S.C. 3501-3520) prohibits agencies from conducting information collection (IC) activities until they analyze the need for the collection of information and how the collected data would be managed. Agencies must also analyze whether technology could be used to reduce the burden imposed on those providing the data. The Agency must estimate the time burden required to respond to the IC requirements, such as the time required to complete a particular form. The Agency submits its IC analysis and burden estimate to the Office of Management and Budget (OMB) as a formal information collection request (ICR); the Agency cannot conduct the information collection until OMB approves the ICR.

FMCSA asks for comment on the IC requirements of this proposal. The Agency's analysis of these comments would be used in devising the Agency's estimate of the IC burden of the pilot program. Comments can be submitted to the docket as outlined under ADDRESSES at the beginning of this notice. Specifically, the Agency asks for comment on: (1) How useful the information is and whether it can help FMCSA perform its functions better; (2) how the Agency can improve the quality of the information being collected; (3) the accuracy of FMCSA's estimate of the burden of this IC; and (4) how the Agency can minimize the burden of collection.

Because this is a proposed pilot program in which certain aspects—such as the content of forms and reports—have not been finalized, the Agency is not posting possible IC burden data at this time. If the pilot program is to be implemented, this information would be posted at a later date and additional comments would be taken.

XI. Removal From the Program

FMCSA reserves the right to remove any motor carrier or driver from the pilot program for reasons including, but not limited to, failing to meet any of the requirements of the program.

XII. Request for Public Comments

The following questions identify input desired by FMCSA. Instructions for filing comments to the public docket are included earlier in this notice. Persons are encouraged to respond wherever possible, but comments are not limited to replies to these questions:

1. Are any additional safeguards needed to ensure that the pilot program provides a level of safety equivalent to that without the age exemption?

2. Would carriers be able to obtain enough volunteer drivers to serve in the control group?

3. Do “comparable levels of training and experience” need to be defined more precisely? If so, what levels would you suggest?

4. Are traffic violations, crashes, and inspection violations adequate to allow a comparison of safety records? If not, what other safety performance measures should be included?

5. If drivers reach age 21 while in the study group, should they be removed from the pilot and replaced with a different driver meeting the eligibility criteria?

6. Are the data collection efforts proposed so burdensome for carriers as to discourage their participation?

7. Are there carriers currently using onboard monitoring on all their CMVs that are willing to participate in the study? Is onboard monitoring of pilot program drivers needed to assess their safety performance?

Issued on: August 11, 2016.
T.F. Scott Darling, III,
Administrator.

[FR Doc. 2016-19948 Filed 8-19-16; 8:45 am]

BILLING CODE 4910-EX-P